DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy. U.S. Patent Application No. 10/355,162: Magnetic Nanoparticles Having Passivated Metallic Cores, Navy Case No. 83,289.//U.S. Patent Application No. 10/364,513: Nanoparticle Manganese Zinc Ferrites Synthesized Using Reverse Micelles, Navy Case No. 83,484.//U.S. Patent Application No. 10/414,571: Fluorescent-Magnetic Nanoparticles With Core-Shell Structure, Navy Case No. 84,548.

ADDRESSES: Requests for copies of the inventions cited should be directed to the Naval Research Laboratory, Code 1004, 4555 Overlook Avenue, SW., Washington, DC 20375-5320, and must include the Navy Case number.

FOR FURTHER INFORMATION CONTACT: Jane F. Kuhl, Technology Transfer Office, NRL Code 1004, 4555 Overlook Avenue, SW., Washington, DC 20375-5320, telephone 202-767-7230. Due to temporary U.S. Postal Service delays, please fax 202-404-7920, e-Mail: kuhl@utopia.nrl.navy.mil or use courier delivery to expedite response.

(Authority: 35 U.S.C. 207, 37 CFR Part 404)

Dated: May 18, 2005.
I.C. Le Moyne Jr.,
Lieutenant, Judge Advocate General's Corps, U.S. Navy, Alternate Federal Register Liaison Officer.

[FR Doc. 05-10394 Filed 5-24-05; 8:45 am]

BILLING CODE 3810-FF-P